DEPARTMENT OF AGRICULTURE

Office of the Secretary

Research, Education, and Economics Notice of the Advisory Committee on Small Farms Meeting

AGENCY: Research, Education and Economics, USDA.

ACTION: Notice of meeting.

SUMMARY: In accordance with the Federal Advisory Committee Act, 5 U.S.C. App. 2, the United States Department of Agriculture announces a meeting of the USDA Advisory Committee on Small Farms.

FOR FURTHER INFORMATION CONTACT: Enrique Nelson Escobar, Executive Director of the USDA Advisory Committee on Small Farms, Research, Education and Economics, U.S. Department of Agriculture, Mail Stop 2027, Room 1412, South Agriculture Building, 1400 Independence Avenue SW., Washington, D.C. 20250-3810. Telephone: 202-720-9354, Fax: 202-720-0443, or e-mail: adrain@reeusda.gov.

SUPPLEMENTARY INFORMATION: The USDA Advisory Committee on Small Farms, consisting of 19 members, representing small farms, ranches, and woodlot owners and the diverse groups USDA programs serve, has scheduled a meeting for April 18-20, 2000. The Committee meeting will be held 8:00 a.m.-5:00 p.m. on Tuesday, April 18, on Wednesday, April 20, 8:00 a.m.-5 p.m., and on Thursday, April 20, 8 a.m.-12 p.m. During this time the Advisory Committee will: (1) Hear reports from working sub-committees, (2) hear comments from the general public, (3) finalize plans for achieving the committee objectives, and (4) determine how and when the Committee will make recommendations to the Secretary.

Dates and Locations: April 18—8:00 a.m. to 5:00 p.m., Advisory Committee General Meeting, Jamie L. Whitten Federal Building, Rooms 104-A and 107-A, 1400 Jefferson Drive, S.W., Washington, D.C. April 19—8:00 a.m. to 5:00 p.m., Advisory Committee General Meeting, Jamie L.Whitten Federal Building, Rooms 104-A and 107-A, 1400 Jefferson Drive, S.W., Washington, D.C. On April 19, at 10:00 a.m. to 12:00 p.m., the general public will have an opportunity to provide oral and written comments to the Committee in Room 104-A, 1400 Jefferson Drive, S.W., Washington, D.C. In general, each individual or group making an oral presentation will be limited to a total time of ten minutes. April20—8:00 a.m. to 12:00 p.m., Advisory Committee General Meeting, Jamie L. Whitten Federal Building, Room 104-A, 1400 Jefferson Drive, S.W. Washington, D.C.

Type of Meeting: Open to the public.

Comments: The public may file written comments to the USDA Advisory Committee contact person before or within a reasonable time after the meeting. All statements will become a part of the official records of the USDA Advisory Committee on Small Farms and will be kept on file for public review in the office of the Acting Director of Small Farms, Room 1410 South Building, U.S. Department of Agriculture, Washington, DC . 20250.

I. Miley Gonzalez,
Under Secretary, Research, Education, and Economics.

[FR Doc. 00-8066 Filed 3-31-00; 8:45 am]

BILLING CODE 3410-22-P